FEDERAL COMMUNICATIONS COMMISSION

[WC Docket No. 17-97; DA 25-763; FR ID 310677]

Wireline Competition Bureau Seeks Comment on Two Periodic TRACED Act Obligations Regarding STIR/SHAKEN Caller ID Authentication

AGENCY: Federal Communications Commission.

ACTION: Notice.

SUMMARY: In this document, the Wireline Competition Bureau (Bureau) of the Federal Communications Commission (Commission) seeks comment concerning two recurring statutory obligations under the Telephone Robocall Abuse Criminal Enforcement and Deterrence Act (TRACED Act). First, the Bureau seeks comment on whether the extensions granted by the Commission for implementation of the STIR/SHAKEN caller ID authentication framework should be revised or extended. Second, the Bureau seeks comment to inform the Commission's second triennial assessment of the efficacy of the STIR/SHAKEN caller ID authentication framework as a tool to combat illegal robocalls.

DATES: Comments are due on or before October 3, 2025, and reply comments are due on or before October 20, 2025.

ADDRESSES: Pursuant to sections 1.415 and 1.419 of the Commission's rules, 47 CFR 1.415, 1.419, interested parties may file comments and reply comments on or before the dates indicated on the first page of this document. Comments may be filed using the Commission's Electronic Comment Filing System (ECFS).

• Electronic Filers: Comments may be filed electronically using the internet by accessing the ECFS: https://www.fcc.gov/ecfs.

• Paper Filers: Parties who choose to file by paper must file an original and one copy of each filing.

○ Filings can be sent by hand or messenger delivery, by commercial courier, or by the U.S. Postal Service. All filings must be addressed to the Secretary, Federal Communications Commission.

○ Hand-delivered or messenger-delivered paper filings for the Commission's Secretary are accepted between 8:00 a.m. and 4:00 p.m. by the FCC's mailing contractor at 9050 Junction Drive, Annapolis Junction, MD 20701. All hand deliveries must be held together with rubber bands or fasteners. Any envelopes and boxes must be disposed of before entering the building.

○ Commercial courier deliveries (any deliveries not by the U.S. Postal Service) must be sent to 9050 Junction Drive, Annapolis Junction, MD 20701.

○ Filings sent by U.S. Postal Service First-Class Mail, Priority Mail, and Priority Mail Express must be sent to 45 L Street NE, Washington, DC 20554.

People with Disabilities: To request materials in accessible formats for people with disabilities (braille, large print, electronic files, audio format), send an email to fcc504@fcc.gov or call the Consumer & Governmental Affairs Bureau at 202-418-0530.

FOR FURTHER INFORMATION CONTACT: For further information about the Public Notice, please contact Janice Gorin, Attorney Advisor, Competition Policy Division, Wireline Competition Bureau, at Janice.Gorin@fcc.gov.

SUPPLEMENTARY INFORMATION: This is a summary of the Bureau's Public Notice, DA 25-763, in WC Docket No. 17-97, released on August 27, 2025. The complete text of this document is available for download at https://www.fcc.gov/document/wcb-seeks-comment-two-traced-act-obligations-1.

Ex Parte Rules. This proceeding shall be treated as a “permit-but-disclose” proceeding in accordance with the Commission's ex parte rules. Persons making ex parte presentations must file a copy of any written presentation or a memorandum summarizing any oral presentation within two business days after the presentation (unless a different deadline applicable to the Sunshine period applies). Persons making oral ex parte presentations are reminded that memoranda summarizing the presentation must (1) list all persons attending or otherwise participating in the meeting at which the ex parte presentation was made, and (2) summarize all data presented and arguments made during the presentation. If the presentation consisted in whole or in part of the presentation of data or arguments already reflected in the presenter's written comments, memoranda or other filings in the proceeding, the presenter may provide citations to such data or arguments in his or her prior comments, memoranda, or other filings (specifying the relevant page and/or paragraph numbers where such data or arguments can be found) in lieu of summarizing them in the memorandum. Documents shown or given to Commission staff during ex parte meetings are deemed to be written ex parte presentations and must be filed consistent with rule 1.1206(b). In proceedings governed by rule 1.49(f) or for which the Commission has made available a method of electronic filing, written ex parte presentations and memoranda summarizing oral ex parte presentations, and all attachments thereto, must be filed through the electronic comment filing system available for that proceeding, and must be filed in their native format (e.g., .doc, .xml, .ppt, searchable .pdf). Participants in this proceeding should familiarize themselves with the Commission's ex parte rules.

Synopsis

I. Comments Sought on Stir/Shaken Implementation Extensions

In the TRACED Act, Congress instructed the Commission to “assess any burdens or barriers” to the implementation of STIR/SHAKEN that certain providers might face, and “upon a public finding of undue hardship,” authorized the Commission to delay STIR/SHAKEN implementation deadlines “for a reasonable period of time.” In its initial assessment conducted in 2020 [88 FR 43446-01], the Commission granted three categorical implementation extensions based on undue hardship, and it added a third undue hardship extension in 2023. Pursuant to the TRACED Act, providers also have a continuing extension for the portions of their networks that rely on technology that cannot initiate, maintain, or terminate session internet protocol (SIP) calls. Because this extension was not granted on the basis of undue hardship, we do not address it further in this Public Notice. Additionally, providers that lack control over the network infrastructure necessary to implement STIR/SHAKEN are exempt from implementing STIR/SHAKEN. As this is not an undue hardship extension, we also do not address it further in this Public Notice. Only two such extensions remain for (1) providers that cannot obtain the Service Provider Code (SPC) token necessary to participate in STIR/SHAKEN, and (2) small voice service providers that originate calls via satellite using North American Numbering Plan (NANP) numbers. The extension for services scheduled for section 214 discontinuance expired on June 30, 2022, and the extension for non-facilities-based and facilities-based small voice service providers ended on June 30, 2022, and June 30, 2023, respectively.

The TRACED Act further instructs the Commission to annually “consider revising or extending” any extension granted due to undue hardship, including whether an extension remains necessary. To comply, the Commission has directed the Bureau to annually “reevaluate” and “revise or extend” any such extension “as necessary.” As part of this evaluation, the Bureau may lengthen a granted extension and it can also decrease, but not expand, the scope of entities that are entitled to such an extension.

Pursuant to the TRACED Act and section 64.6304(f) of the Commission's rules, we seek comment to enable our annual reevaluation of the remaining STIR/SHAKEN undue hardship implementation extensions. When considering whether a hardship is “undue” under the TRACED Act, and whether an extension is for a “reasonable amount of time,” the Commission has found it appropriate to balance the hardship of compliance due to “the burdens and barriers to implementation” faced by a provider or class of providers with the benefit to the public of implementing STIR/SHAKEN expeditiously. With that in mind, we seek comment on whether the Bureau should revise or extend the two remaining extensions.

Extension for Providers That Cannot Obtain an SPC Token. We seek comment on the extension for providers that cannot obtain an SPC token. To participate in STIR/SHAKEN, a provider must obtain an SPC token through the STIR/SHAKEN governance system. Because access to a token is necessary for participation in STIR/SHAKEN, the Commission initially granted providers unable to obtain a token an indefinite extension until they were able to receive a token. In May 2021, the STIR/SHAKEN Governance Authority revised the Token Access Policy to enable more providers to obtain a token. In its November 2024 Eighth Caller ID Authentication Report and Order [90 FR 40241], the Commission required, inter alia, that all providers with a STIR/SHAKEN implementation obligation obtain an SPC token from the STIR/SHAKEN Policy Administrator, but declined to repeal the indefinite SPC token extension.

In its most recent annual evaluation, the Bureau declined to terminate or modify the extension so staff could assess the number of providers still claiming the extension in their most recent Robocall Mitigation Database submissions and the merit of those claims. To supplement this assessment, we seek comment on the types and number of providers that remain unable to obtain a token and the barriers to token access for these providers, in light of the changes to the Token Access Policy. Is there anything that can be done to make tokens available to these providers? Does the extension remain necessary?

Extension for Small Voice Service Providers Originating Calls via Satellite Using NANP Numbers. We seek comment on the Commission's extension for small voice service providers that originate calls via satellite using NANP numbers. The Commission adopted this indefinite extension concluding that the balance of benefits and burdens counseled “against requiring such providers to implement” STIR/SHAKEN. We seek comment on the current benefits, burdens, and barriers to STIR/SHAKEN implementation by small voice service providers that originate calls via satellite using NANP numbers. Have these benefits, burdens, and barriers changed since the Commission adopted the extension and if so, how? Do the justifications for the extension still apply? Have any abuses occurred due to this extension, or are any abuses likely to result if the extension is continued? What impact does the extension have on the Commission's longstanding goal of achieving ubiquitous deployment of the STIR/SHAKEN framework? Is it necessary for the extension to remain indefinite, or would it be more appropriate to modify the extension to provide a known end date?

II. Comments Sought on Stir/Shaken Efficacy

Section 4(b)(4) of the TRACED Act directs the Commission to, every three years, “assess the efficacy of the technologies used for [the] call authentication frameworks” implemented pursuant to the TRACED Act and “based on the assessment . . . revise or replace the call authentication frameworks . . . if the Commission determines it is in the public interest to do so.” The Commission must submit to Congress “a report on the findings of the assessment” and any actions taken by the Commission “to revise or replace the call authentication frameworks.” Before conducting the assessment under the TRACED Act, the Commission is required to provide public notice and an opportunity to comment. The Commission submitted its first such triennial report to Congress on December 20, 2022, finding that STIR/SHAKEN is effective at authenticating caller ID information. Through this Public Notice, the Bureau seeks comment to inform the Commission's second triennial assessment on the efficacy of STIR/SHAKEN, which remains the only call authentication framework currently implemented pursuant to the TRACED Act.

In the First Triennial Report, the Bureau established a standard for conducting its assessment that is based on “how well [STIR/SHAKEN] effectuates the authentication of caller ID information.” Although the Bureau considered applying alternative standards, such as STIR/SHAKEN's “impact on preventing illegally spoofed robocalls, or preventing all illegal robocalls,” it agreed with the majority of commenters that assessing STIR/SHAKEN under such standards “would fail to account for the fact that, while a critical tool in protecting consumers from illegal spoofing, the STIR/SHAKEN framework is only one facet of the larger campaign by the Commission and industry to combat illegal robocalls.” The Bureau seeks comment on whether it should maintain, revise, or replace this standard for its second assessment of the efficacy of STIR/SHAKEN.

In the three years that have passed since the Commission conducted its first triennial assessment, providers have gained more experience implementing the STIR/SHAKEN framework. The Commission has also adopted rules expanding STIR/SHAKEN implementation obligations to cover gateway providers and non-gateway intermediate providers, in addition to voice service providers. Gateway providers were required to implement STIR/SHAKEN by June 30, 2023, and non-gateway intermediate providers that receive unauthenticated calls directly from domestic originating providers were required to authenticate those calls using STIR/SHAKEN as of December 31, 2023. Now, all providers with control over the network infrastructure necessary to authenticate calls are required to implement STIR/SHAKEN for SIP calls unless subject to an exemption or extension. With these developments in mind, we seek comment on how well STIR/SHAKEN effectuates the authentication of caller ID information today. Are there ways STIR/SHAKEN could be more effective at authenticating caller ID information? Do any specific factors limit STIR/SHAKEN's efficacy, and what solutions might resolve these issues? Have there been other developments, such as industry changes or evolution in technologies, that affect the efficacy of STIR/SHAKEN, and how should any such developments be factored into our assessment? Do any commenters believe the Commission should revise STIR/SHAKEN or replace it with a different framework? We also seek comment on the efficacy of STIR/SHAKEN under any alternative standard proposed by commenters.

Federal Communications Commission.
Joseph Calascione,
Chief, Wireline Competition Bureau.

[FR Doc. 2025-16804 Filed 9-2-25; 8:45 am]

BILLING CODE 6712-01-P